DEPARTMENT OF COMMERCE

International Trade Administration

[C-122-858]

Certain Softwood Lumber Products From Canada: Postponement of Preliminary Determination in the Countervailing Duty Investigation

AGENCY: Enforcement and Compliance, International Trade Administration, U.S. Department of Commerce.

DATES: Effective February 2, 2017.

FOR FURTHER INFORMATION CONTACT: Toby Vandall at (202) 482-1664, or Peter Zukowski at (202) 482-0189, AD/CVD Operations, Office I, Enforcement and Compliance, International Trade Administration, U.S. Department of Commerce, 1401 Constitution Avenue NW., Washington, DC 20230.

SUPPLEMENTARY INFORMATION:

Background

On December 15, 2016, the Department of Commerce (the Department) initiated a countervailing duty investigation on certain softwood lumber products from Canada.¹ Currently, the preliminary determination is due no later than February 21, 2017.²

¹ See Certain Softwood Lumber Products from Canada: Initiation of Countervailing Duty Investigation, 81 FR 93897 (December 22, 2016).

² The actual deadline is February 18, 2017, which is a Saturday. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of the Preliminary Determination

Section 703(b)(1) of the Tariff Act of 1930, as amended (the Act), requires the Department to issue the preliminary determination in a countervailing duty investigation within 65 days after the date on which the Department initiated the investigation. However, section 703(c)(1) of the Act permits the Department to postpone the preliminary determination until no later than 130 days after the date on which the Department initiated the investigation if: (A) The petitioner ³ makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

³ In this investigation, the petitioner is the Committee Overseeing Action for Lumber International Trade Investigations or Negotiations.

On January 26, 2017, the petitioner submitted a timely request that we postpone the preliminary CVD determination.⁴ The petitioner stated that it requests postponement “in light of the number of programs under investigation, the number of company and government respondents, and the expected complexity of the issues.” ⁵ In accordance with 19 CFR 351.205(e), the petitioner has stated the reasons for requesting a postponement of the preliminary determination, and the Department finds no compelling reason to deny the request. Therefore, pursuant to section 703(c)(1)(A) of the Act, we are extending the due date for the preliminary determination to no later than 130 days after the date on which this investigation was initiated, i.e., to April 24, 2017. Pursuant to section 705(a)(1) of the Act and 19 CFR 351.210(b)(1), the deadline for the final determination will continue to be 75 days after the date of the preliminary determination.

⁴ See Letter from the petitioner, “Certain Softwood Lumber Products from Canada: Request for Extension of the Preliminary Determination,” (January 26, 2017).

⁵ Id.

This notice is issued and published pursuant to section 703(c)(2) of the Act and 19 CFR 351.205(f)(l).

Dated: January 27, 2017.
Ronald K. Lorentzen,
Acting Assistant Secretary for Enforcement and Compliance.

[FR Doc. 2017-02207 Filed 2-1-17; 8:45 am]

BILLING CODE 3510-DS-P